DEPARTMENT OF ENERGY

Federal Energy Regulatory Commission

[Project No. 1403-066]

Yuba County Water Agency; Notice of Intent to File License Application, Filing of Pre-Application Document, And Approving Use of the Traditional Licensing Process

a. Type of Filing: Notice of Intent to File License Application and Request to Use the Traditional Licensing Process.

b. Project No.: 1403-066

c. Dated Filed: January 28, 2021

d. Submitted By: Yuba County Water Agency

e. Name of Project: Narrows Hydroelectric Project

f. Location: Approximately 23 miles northeast of the City of Marysville, in Nevada County, California. As proposed, the project would occupy approximately 0.55 acres of land administered by the U.S. Army Corps of Engineers.

g. Filed Pursuant to: 18 CFR 5.3 of the Commission's regulations

h. Applicant Contact: Willie Whittlesey, General Manager, Yuba County Water Agency, 1120 F Street, Marysville, CA 95901-4226; (530) 741-5000; WWhittlesey@yubawater.org.

i. FERC Contact: Kelly Wolcott at (202) 502-6480 or kelly.wolcott@ferc.gov.

j. Yuba County Water Agency (YCWA) filed its request to use the Traditional Licensing Process on January 28, 2021. YCWA provided public notice of its request on January 28, 2021. In a letter dated March 24, 2021, the Director of the Division of Hydropower Licensing approved YCWA's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the California State Historic Preservation Officer, as required by section 106, National Historic Preservation Act, and the implementing regulations of the Advisory Council on Historic Preservation at 36 CFR 800.2.

l. With this notice, we are designating Yuba County Water Agency as the Commission's non-federal representative for carrying out informal consultation, pursuant to section 7 of the Endangered Species Act and section 305(b) of the Magnuson-Stevens Fishery Conservation and Management Act; and consultation pursuant to section 106 of the National Historic Preservation Act.

m. YCWA filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208-3676 (toll free), or (202) 502-8659 (TTY).

o. The applicant states its unequivocal intent to submit an application for a new license for Project No.1403-066. Pursuant to 18 CFR 16.8, 16.9, and 16.10 each application for a new license and any competing license applications must be filed with the Commission at least 24 months prior to the expiration of the existing license. All applications for license for this project must be filed by January 31, 2024.

p. Register online at https://ferconline.ferc.gov/eSubscription.aspx to be notified via email of new filing and issuances related to this or other pending projects. For assistance, contact FERC Online Support.

Dated: March 24, 2021.
Kimberly D. Bose,
Secretary.

[FR Doc. 2021-06503 Filed 3-29-21; 8:45 am]

BILLING CODE 6717-01-P